DEPARTMENT OF THE INTERIOR

Bureau of Land Management

[ES-020-01-1310-EI]

Notice of Intent to Prepare Planning Analyses/Environmental Assessments

AGENCY: Bureau of Land Management, Interior.

ACTION: Notice of intent to prepare Planning Analyses/Environmental Assessments.

SUMMARY: This document provides notice that the Bureau of Land Management (BLM), Jackson Field Office, Eastern States intends to prepare Planning Analyses/Environmental Assessments (PA/EA) to consider leasing scattered tracts of Federal mineral estate for oil and gas exploration and development. The PA/EA will fulfill the needs and obligations set forth by the National Environmental Policy Act (NEPA), the Federal Land Policy and Management Act (FLPMA), and BLM management policies. The BLM will work collaboratively with interested parties to identify the management decisions that are best suited to local, regional, and national needs and concerns.

DATES: This notice initiates the public scoping process. Comments on issues and planning criteria can be submitted in writing to the address listed below. Due to the limited scope of this PA/EA process, public meetings are not scheduled. BLM will, however, consider requests for one or more public meetings.

ADDRESSES: Send comments to: Bureau of Land Management, Jackson Field Office, 411 Briarwood Drive, Suite 404, Jackson, MS 39206.

FOR FURTHER INFORMATION CONTACT: John Reiss, Lead for PA/EA, Jackson Field Office, (601-977-5400).

SUPPLEMENTARY INFORMATION: The BLM has responsibility to consider nominations to lease Federal mineral estate for oil and gas exploration and development. An interdisciplinary team will be used in the preparation of the PA/EAs. Preliminary issues, subject to change as a result of public input, are (1) potential impacts of oil and gas exploration and development on the surface resources and (2) consideration of restrictions on lease rights to protect surface resources. The number of separate analyses that will be prepared for the tracts will depend on their proximity to each other. Tract locations, along with acreage, are listed below.

Alabama, Fayette County, Huntsville Meridian

T16S, R9W,

Sec. 20, NWNE;

Sec. 23, SW;

Sec. 25, E2SW, SWSW;

Sec. 26, NESE, S2SW;

Sec. 30, SWNW;

Sec. 36, NENW, SESW.

T16S, R10W,

Sec. 1, SWNW;

Sec. 10, NESE;

Sec. 13, SWNW;

Sec. 24, NWNE.

Alabama, Lamar County, Huntsville Meridian

T 15S, R 15W,

Sec. 13, SESE.

Alabama, Tuscaloosa County, Huntsville Meridian

T17S, R9W,

Sec. 14, E2NW;

Sec. 34, NESE.

T17S, R10W,

Sec. 1, NENE;

Sec. 8, SESW;

Sec. 10, SENE.

T18S, R7W,

Sec. 7, NWNW.

T18S, R9W,

Sec. 3, NWNE, NESE.

Alabama, Walker County, Huntsville Meridian

T16S, R8W,

Sec. 21, NESW.

T17S, R7W,

Sec. 6, NWSW.

Arkansas, Franklin County, Fifth Principal Meridian

T10N, R26W,

Sec. 2, SESE, SESW, NENW, NWNE.

Louisiana, Bienville Parish, Louisiana Meridian

T16N, R10W,

Sec. 4, lots 5-8:

Sec. 5, lot 1:

Sec. 8, lots 1-6:

Sec. 9, lots 8-10:

Louisiana, Bossier Parish, Louisiana Meridian

T 16N, R 11W,

Sec. 14, W2NW, SENW, E2SW, NWSW.

MS Wayne Mississippi, Wayne County, St Stephens Meridian

T7N, R7W,

Sec. 2, W2NWNW, N2SWNW;

Sec. 3, E2NENE.

T8N, R9W,

Sec. 4, NWSW;

Sec. 19, SWNE.

Bruce E. Dawson,
Field Manager, Jackson Field Office.

[FR Doc. 03-8080 Filed 4-2-03; 8:45 am]

BILLING CODE 4310-GJ-P